DEPARTMENT OF JUSTICE

Antitrust Division

Notice Pursuant to the National Cooperative Research and Production Act of 1993—Cellular V2X Device-to-Device Communication Consortium

Notice is hereby given that, on November 1, 2018, pursuant to Section 6(a) of the National Cooperative Research and Production Act of 1993, 15 U.S.C. 4301 et seq. (“the Act”), Cellular V2X Device-to-Device Communication Consortium (“Cellular V2X D2D Consortium”) has filed written notifications simultaneously with the Attorney General and the Federal Trade Commission disclosing (1) the identities of the parties to the venture and (2) the nature and objectives of the venture. The notifications were filed for the purpose of invoking the Act's provisions limiting the recovery of antitrust plaintiffs to actual damages under specified circumstances.

Pursuant to Section 6(b) of the Act, the identities of the parties to the venture are: Ford Motor Company, Dearborn, MI; General Motors LLC, Detroit, MI; Hyundai America Technical Center, Inc., Superior Township, MI; Nissan Technical Center N.A., Farmington Hills, MI; and Qualcomm, Inc., San Diego, CA. The general area of Cellular V2X D2D Consortium's planned activity is to fund and conduct a program called Cellular V2X Performance Assessment, which will consist of multiple research projects limited to specific areas in which the members believe common solutions to specifically defined technical goals will speed the development and ultimate consumer access to vehicles equipped with effective cellular-based device-to-device communications (“C-V2X-equipped vehicles”). Cellular V2X D2D Consortium's objectives are to gain further knowledge and understanding of C-V2X-equipped vehicles.

Suzanne Morris,
Chief, Premerger and Division Statistics Unit, Antitrust Division.

[FR Doc. 2018-24432 Filed 11-7-18; 8:45 am]

BILLING CODE 4410-11-P